NEIGHBORHOOD REINVESTMENT CORPORATION

Sunshine Act; Audit Committee Meeting of the Board of Directors

TIME AND DATE: 2 p.m., Monday, April 30, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call To Order

II. Mid Year Review Discussion

III. Executive Session with Internal Audit Director

IV. Executive Session with Officers: Pending Litigation

V. Internal Audit Report with Management's Response

VI. Amendment to the FY 2012 Internal Audit Plan

VII. FY'13 Risk Assessment & DRAFT Internal Audit Plan

VIII. Internal Audit Performance Scorecard

IX. Internal Audit Status Reports

X. External Audit Updates

XI. National Foreclosure Mitigation Counseling (NFMC)/Emergency Homeowners Loan Program (EHLP) Update

XII. CFO Update

XIII. OHTS Watch List

XIV. Adjournment

Erica Hall,
Assistant Corporate Secretary.

[FR Doc. 2012-9955 Filed 4-20-12; 4:15 pm]

BILLING CODE 7570-02-P